DEPARTMENT OF AGRICULTURE

Farm Service Agency

Notice of Request for Extension of a Currently Approved Information Collection: United States Warehouse Act

AGENCY: Farm Service Agency, USDA.

ACTION: Notice and request for comments.

SUMMARY: In accordance with the Paperwork Reduction Act of 1995, this notice announces the Farm Service Agency's (FSA) intention to request an extension from the Office of Management and Budget (OMB) for an information collection process currently in effect with respect to regulations, licensing and electronic provider agreements issued under the United States Warehouse Act (USWA).

DATES: Comments must be received on or before May 31, 2005 to be assured consideration. Comments may be submitted by mail, fax, e-mail or Internet to the applicable address below.

ADDRESSES: Comments should be sent to Roger Hinkle, USWA Program Manager, Warehouse and Inventory Division, Farm Service Agency (FSA), United States Department of Agriculture, STOP 0553, 1400 Independence Avenue, SW., Washington, DC 20250-0553, telephone (202) 720-7433, FAX (202) 690-1323, e-mail address, Roger.Hinkle@usda.gov. Persons with disabilities who require alternative means for communication of regulatory information (Braille, large print, audiotape, etc.) should contact USDA's TARGET Center at (202) 720-2600 (voice and TDD).

FOR FURTHER INFORMATION CONTACT: Roger Hinkle, (202) 720-8433 or e-mail Roger.Hinkle@usda.gov.

SUPPLEMENTARY INFORMATION: Title: United States Warehouse Act.

OMB Control Number: 0560-0120.

Expiration Date of Approval: August 31, 2005.

Type of Request: Extension of a Currently Approved Information Collection

Abstract: The USWA authorizes the Secretary of Agriculture to license public warehouse operators that are in the business of storing agricultural products; to examine such federally-licensed warehouses; and to license qualified persons to sample, inspect, weigh, and grade agricultural products. USDA is also authorized to issue regulations which govern the establishment and maintenance of electronic systems under which electronic documents including title documents related to the shipment, payment and financing may be issued or transferred for any agricultural product. The USWA licenses over 50 percent of all commercial grain and cotton warehouse capacities in the United States.

The information collected under OMB Number 0560-0120, as identified above, allows FSA to effectively administer the regulations, licensing and electronic provider agreements and related reporting and recordkeeping requirements under the USWA. USWA activities are administered by the FSA and also encompass examination of warehouses operated under the Standards for Approval of Warehouses Under the Commodity Credit Corporation (CCC) Charter Act. Although there are several types of warehouses covered by USWA and CCC functions, the reporting requirements for a particular type of warehouse are essentially the same. With some exceptions, the same forms are used for both USWA licensing and CCC purposes. These forms are furnished to interested warehouse operators or used by warehouse examiners employed by FSA to secure and record information about the warehouse operator and the warehouse. The general purpose of the forms are identical, i.e., to provide those charged with issuing licenses under the USWA or executing contracts for CCC with a basis to determine whether the warehouse and the warehouse operator meet application standards to receive a license or contract, and to determine compliance once the license is issued or the contract approved.

Estimate of Burden: Public reporting burden for this information collection is estimated to average 0.41 hours per response.

Respondents: Warehouse operators and electronic providers.

Estimated Number of Respondents: 4,000.

Estimated Number of Responses Per Respondent: 1 or on occasion.

Estimated Total Annual Responses: 25,613.

Estimated Total Annual Burden on Respondents: 10,516 Hours.

Comments are invited on these requirements including: (a) Whether the proposed collection of information is necessary for the proper performance of the functions of the agency, including whether the information will have practical utility; (b) the accuracy of the agency's estimate of the burden of the collection of information including the validity of the methodology and assumptions used; (c) ways to enhance the quality, utility, and clarity of the information technology; or (d) ways to minimize the burden of the information collection on those who are to respond (such as through the use of appropriate automated, electronic, mechanical, or other technological collection techniques) or other forms of information technology; e.g., permitting electronic submission response. The information collection package may be obtained from Roger Hinkle, at the address listed below. Comments should be sent to the Desk Officer for Agriculture, Office of Information and Regulatory Affairs, OMB, Washington, DC 20503, and to Roger Hinkle, USWA Program Manager, Warehouse and Inventory Division, FSA, USDA, STOP 0553, 1400 Independence Avenue, SW., Washington, DC 20250-0553.

Comments received in response to this notice will be made a matter of public record. Comments will be summarized and included in the submission for approval by OMB.

Signed in Washington, DC on March 25, 2005.
Thomas B. Hofeller,
Administrator, Farm Service Agency.

[FR Doc. 05-6361 Filed 3-30-05; 8:45 am]

BILLING CODE 3410-05-P